DEPARTMENT OF JUSTICE

Antitrust Division

Notice Pursuant to the National Cooperative Research and Production Act of 1993—Petroleum Environmental Research Forum Project No. 2014-10, Direct Monitoring of Flare Combustion Efficiency

Notice is hereby given that, on February 18, 2016, pursuant to Section 6(a) of the National Cooperative Research and Production Act of 1993, 15 U.S.C. 4301 et seq. (“the Act”), Petroleum Environmental Research Forum Project No. 2014-10, Direct Monitoring of Flare Combustion Efficiency (“PERF Project No. 2014-10”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research and Engineering Company, Spring, TX; Aramco Services Company, Houston, TX; Chevron U.S.A. Inc., A Pennsylvania Corporation through its Division Chevron Energy Technology Company Division, San Ramon, CA; Chevron Phillips Chemical Company LP, The Woodlands, TX; Eastman Chemical Company, Kingsport, TN; and Phillips 66 Company, Houston, TX. The general area of PERF Project No. 2014-10's planned activity is, through cooperative research efforts, to explore a series of field tests at a commercial scale test flare to collect raw data regarding performance of third party vendor/licensor remote sensing technologies to continuously measure flare combustion efficiency (CE).

Patricia A. Brink,
Director of Civil Enforcement, Antitrust Division.

[FR Doc. 2016-06083 Filed 3-16-16; 8:45 am]

BILLING CODE P